DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, July 21, 2003. The Madera Resource Advisory Committee will meet at the USDA Forest Service Office, 57003 Road 225, North Fork, CA. The purpose of the meeting is: Review any new RAC proposals, review progress of FY 2002 accounting, update on new Forest Service Region 5 RAC Web site, finalize Madera County RAC mission and clarify voting procedures.

DATES: The Madera Resource Advisory Committee meeting will be held Monday, July 21, 2003. The meeting will be held from 7 p.m. to 9 p.m.

ADDRESSES: The Madera County RAC meeting will be held at the USDA Forest Service Office, 57003 Road 225, North Fork, CA.

FOR FURTHER INFORMATION CONTACT: Dave Martin, USDA, Sierra National Forest, 57003 Road 225, North Fork, CA 93643, (559) 877-2218 ext. 3100; e-mail: dmartin05@fs.fed.us.

SUPPLEMENTARY INFORMATION: Agenda items to be covered include: (1) Review any new RAC proposals, (2) review progress of FY 2002 accounting, (3) update on new Forest Service Region 5 RAC Web site, (4) finalize Madera County RAC mission, and (5) clarify voting procedures. Public input opportunity will be provided and individuals will have the opportunity to address the Committee at that time:

Dated: June 23, 2003.
David W. Martin,
District Ranger.

[FR Doc. 03-16403 Filed 6-27-03; 8:45 am]

BILLING CODE 3410-11-M